DEPARTMENT OF COMMERCE

Foreign-Trade Zones Board

[Order No. 1357]

Approval of Export Processing Authority Within Foreign-Trade Zone 25; Broward County, FL; S.B. Marketing Worldwide, Inc. (Apparel Printing)

Pursuant to its authority under the Foreign-Trade Zones Act of June 18, 1934, as amended (19 U.S.C. 81a-81u) (the Act), the Foreign-Trade Zones Board (the Board) adopts the following Order:

Whereas, Broward County, Florida, grantee of FTZ 25, has requested authority under 15 CFR § 400.32(b)(1) of the Board's regulations on behalf of S.B. Marketing Worldwide, Inc., to process (screen printing) foreign-origin shirts for export under zone procedures within FTZ 25 (filed 7-30-2004, FTZ Docket 31-2004);

Whereas, pursuant to 15 CFR 400.32(b)(1), the Commerce Department's Assistant Secretary for Import Administration has the authority to act for the Board in making such decisions on new manufacturing/processing activity under certain circumstances, including situations where the proposed activity is for export only (15 CFR 400.32(b)(1)(ii)); and,

Whereas, the FTZ Staff has reviewed the proposal, taking into account the criteria of 15 CFR 400.31, and the Executive Secretary has recommended approval;

Now, therefore, the Assistant Secretary for Import Administration, acting for the Board pursuant to 15 CFR 400.32(b)(1), concurs in the recommendation and hereby approves the request subject to the Act and the Board's regulations, including 15 CFR 400.28.

Signed at Washington, DC, this 18th day of October, 2004.
James J. Jochum,
Assistant Secretary of Commerce for Import Administration, Alternate Chairman, Foreign-Trade Zones Board.

Attest:
Dennis Puccinelli,
Executive Secretary.

[FR Doc. 04-24551 Filed 11-2-04; 8:45 am]

BILLING CODE 3510-DS-P